OFFICE OF THE UNITED STATES TRADE REPRESENTATIVE

Trade Policy Staff Committee: Public Comments Regarding the Environmental Review of the WTO DOHA Development Agenda (DDA) Negotiations

AGENCY: Office of the United States Trade Representative.

ACTION: Notice and request for comments.

SUMMARY: The Trade Policy Staff Committee (TPSC) is requesting written public comments on the scope of the environmental review of the multilateral negotiations of the Doha Development Agenda (DDA) conducted under the auspices of the World Trade Organization (WTO). The TPSC is seeking to supplement and further inform its consideration of reasonably foreseeable significant environmental effects that might flow from economic changes attributable to the negotiations, in the light of progress to date in the negotiations, notably, the Decision Adopted by the WTO General Council on 1 August 2004 on the Doha Work Program.

DATES: Public comments should be received no later than March 31, 2005.

ADDRESSES: Submissions by electronic mail: FR0515@USTR.EOP.GOV. Submissions by facsimile: Gloria Blue, Executive Secretary, Trade Policy Staff Committee, at (202) 395-6143. The public is strongly encouraged to submit documents electronically rather than by facsimile. (See requirements for submissions below.)

FOR FURTHER INFORMATION CONTACT: General inquiries concerning the environmental review should be made to the USTR Office of Environment and Natural Resources at (202) 395-7320. Procedural inquiries concerning the public comment process should be directed to Gloria Blue, Executive Secretary, Trade Policy Staff Committee, Office of the U.S. Trade Representative (USTR), (202) 395-3475.

SUPPLEMENTARY INFORMATION:

Environmental Review: Executive Order 13141—Environmental Review of Trade Agreements (November 1999)—and the implementing guidelines (December 2000) formalize the U.S. policy of conducting environmental reviews for certain major trade agreements. Reviews are used to identify potentially significant, reasonably foreseeable environmental impacts (both positive and negative), and information from the review can help facilitate consideration of appropriate responses where impacts are identified. The Order requires environmental reviews of certain types of agreements, including comprehensive multilateral trade rounds. See 64 FR 63169. Reviews address potential environmental impacts that may be associated with projected economic changes expected to occur as a result of the proposed agreement, and potential implications for environmental laws and regulations. The focus of the reviews is on impacts on the United States, although global and transboundary impacts may be considered, where appropriate and prudent.

Comments are invited on the scope of the environmental review, including any reasonably foreseeable, potentially significant environmental effects that might flow from economic changes attributable to the negotiations, and potential implications for U.S. environmental laws, regulations and other measures. The TPSC also welcomes public views on appropriate methodologies for conducting the review. Comments are particularly invited on potentially significant environmental effects—both positive and negative—that might flow from the agriculture, non-agricultural market access (including tariffs and non-tariff barriers to sectors such as environmental goods, fish and forestry), services (including environmental services), rules (including ways to clarify and improve disciplines on environmentally harmful fish subsidies), trade facilitation, and the Special Session of the Committee on Trade and Environment negotiations. Persons submitting written comments should provide as much detail as possible on the degree to which the subject matter they propose for inclusion in the review may raise significant environmental issues in the context of the negotiation.

This request for comment supplements earlier requests for comments, and there is no need to resubmit comments previously provided to the TPSC. Submissions were received and are being considered in response to the following notices: (1) Notice of Initiation of the Environmental Review and Request for Comment on Scope of Environmental Review of Mandated Multilateral Trade Negotiations on Agriculture and Services in the World Trade Organization, 66 FR 20846 (April 25, 2001); and (2) Initiation of Environmental Review of Doha Multilateral Trade Negotiations and Public Comments on the Scope of Environmental Review, 67 FR 34750 (May 15, 2002). Those comments are available for public inspection in the USTR Reading Room (see below). New or updated submissions are welcome. The TPSC will review supplemental or new comments, in conjunction with earlier submissions, in conducting the environmental review.

DOHA Development Agenda: The next meeting of the WTO at the ministerial-level will be in December 2005. Work in 2005 is expected to focus on the technical issues necessary to move the agenda forward, particularly in the light of the WTO General Council's Decision of 1 August 2004, which contained further direction for the agriculture, non-agricultural market access and services negotiations, and the launch of negotiations on trade facilitation. The General Council's decision also took note of the reports from the Negotiating Group on Rules and from the Special Session of the Committee on Trade and Environment. It reaffirmed Members' commitment to progress in these areas of the negotiations in line with the Doha mandate. Accordingly, the TPSC seeks to provide a new opportunity for public comment on the environmental review of the ongoing negotiations.

In a separate notice, the TPSC has requested public views on the general U.S. negotiating objectives and country and item-specific priorities for the Doha negotiations, including with respect to objectives concerning the environmental discussions, 69 FR 71466 (December 9, 2004). That notice contains more detailed information concerning the scope of the negotiations. Further information on the WTO, including the declarations and decisions referred to in this notice or proposals tabled, can be obtained via the Internet at the WTO Web site, http://www.wto.org, and/or the USTR Web site, http://www.ustr.gov. The 2004 President's Annual Report on the Trade Agreements Program, which is available on the USTR Web site, contains extensive information on the WTO and the status of work in the WTO.

Written Submissions: Persons submitting comments may either send one copy by fax to Gloria Blue, Executive Secretary, Trade Policy Staff Committee, at (202) 395-6143 or transmit a copy electronically to FR0515@USTR.EOP.GOV, with “Doha Environmental Review” in the subject line. For documents sent by fax, USTR requests that the submitter provide a confirmation copy electronically. The public is strongly encouraged to submit documents electronically rather than by facsimile. USTR encourages the use of Adobe PDF format to submit attachments to an electronic mail. Interested persons who make submissions by electronic mail should not provide separate cover letters; information that might appear in a cover letter should be included in the submission itself. Similarly, to the extent possible, any attachments to the submission should be included in the same file as the submission itself, and not as separate files.

Comments should be submitted no later than March 31, 2005.

Business confidential information will be subject to the requirements of 15 CFR 2003.6. Any business confidential material must be clearly marked as such and must be accompanied by a non-confidential summary thereof. A justification as to why the information contained in the submission should be treated confidentially should also be contained in the submission. In addition, any submissions containing business confidential information must clearly be marked “Business Confidential” at the top and bottom of the cover page (or letter) and each succeeding page of the submission. The version that does not contain business confidential information should also be clearly marked at the top and bottom of each page, “Public Version” or “Non-Confidential.”

Written comments submitted in connection with this request, except for information granted “business confidential” status pursuant to 15 CFR 2003.6 will be available for public inspection in the USTR Reading Room, Office of the United States Trade Representative. An appointment to review the file can be made by calling (202) 395-6186. The Reading Room is open to the public from 10 a.m. to 12 noon and from 1 p.m. to 4 p.m. Monday through Friday.

Carmen Suro-Bredie,
Chairman, Trade Policy Staff Committee.

[FR Doc. 05-772 Filed 1-13-05; 8:45 am]

BILLING CODE 3190-W5-P